DEPARTMENT OF COMMERCE

National Oceanic and Atmospheric Administration

Availability of Seats for Olympic Coast National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Olympic Coast National Marine Sanctuary Advisory Council: Marine Business and Industry, and Citizen-at Large. Both a primary and alternate member will be selected for each of the two seats. Applicants are chosen based upon their particular expertise and experience in relation to the seat for which they are applying; community and professional affiliations; philosophy regarding the protection and management of marine resources; and possibly the length of residence in the area affected by the sanctuary. Applicants who are chosen as members should expect to serve three-year terms, pursuant to the council's charter.

DATES: Applications are due by November 19, 2010.

ADDRESSES: Application kits may be obtained from Norma Klein, Olympic Coast National Marine Sanctuary, 115 East Railroad Ave., Suite 301, Port Angeles, WA 98362 (norma.klein@noaa.gov). Completed applications should be sent via mail or e-mail to the same address.

FOR FURTHER INFORMATION CONTACT: Carol Bernthal, OCNMS Superintendent, 115 East Railroad Ave., Suite 301, Port Angeles, WA 98362, 360.457.6622 x11, carol.bernthal@noaa.gov.

SUPPLEMENTARY INFORMATION: Sanctuary Advisory Council members and alternates serve three-year terms, unless the member and alternate are selected to fill unexpired terms. In that case, the member and alternate will serve out the remaining time on the unexpired term. The Advisory Council meets bi-monthly in public sessions in communities in and around Olympic Coast National Marine Sanctuary.

The Olympic Coast National Marine Sanctuary Advisory Council was established in December 1998 to assure continued public participation in the management of the sanctuary. Serving in a volunteer capacity, the advisory council's 15 voting members represent a variety of local user groups, as well as the general public. In addition, five Federal government agencies and one Federally funded program serve as non-voting, ex officio members. Since its establishment, the advisory council has played a vital role in advising OCNMS and NOAA on critical issues. In addition to providing advice on management issues facing the Sanctuary, council members serve as a communication bridge between constituents and OCNMS staff.

Authority: 16 U.S.C. 1431, et seq.

(Federal Domestic Assistance Catalog Number 11.429 Marine Sanctuary Program)

Dated: October 15, 2010.
Daniel J. Basta,
Director, Office of National Marine Sanctuaries, National Ocean Service, National Oceanic and Atmospheric Administration.

[FR Doc. 2010-27088 Filed 10-26-10; 8:45 am]

BILLING CODE 3510-NK-M